DEPARTMENT OF COMMERCE

National Oceanic and Atmospheric Administration

[I.D. 102700MC]

Public Assessment of Improved NOAA Weather Radio Automated Voice

AGENCY: National Oceanic and Atmospheric Administration (NOAA).

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 2, 2001.

ADDRESSES: Direct all written comments to Madeleine Clayton, Departmental Forms Clearance Officer, Department of Commerce, Room 6086, 14th and Constitution Avenue NW, Washington DC 20230 (or via Internet at MClayton@doc.gov).

FOR FURTHER INFORMATION CONTACT: Requests for additional information or copies of the information collection instrument(s) and instructions should be directed to Joanne Swanson/Herb White, 1325 East West Highway SSMC II Room 13202, Silver Spring, MD 20910.

SUPPLEMENTARY INFORMATION:

I. Abstract

The National Weather Service (NWS) is undertaking an acquisition effort to replace the existing voice technology used for automation of the NOAA Weather Radio. The current text-to-speech voice technology has been found to be of questionable understandability and acceptability to the public, and new technology has emerged that can better serve the nation’s interests in receipt of broadcast weather warnings, watches, and forecasts from NOAA Weather Radio. The NWS seeks to assess candidates for the voice replacement with the listening public and marine community prior to selecting and acquiring the new technology.

II. Method of Collection

It is intended that multiple focus groups will be formed and canvassed by playing the candidate voices speaking a variety of products and assessing the public reaction to each. In addition, some form of Web-based voluntary assessment and feedback may be offered, along with voice evaluation teams comprised of affected broadcast and public agencies.

III. Data

OMB Number: None.

Form Number: None.

Type of Review: Regular submission.

Affected Public: Individuals or households; business and other for-profit organizations; not-for-profit institutions; farms; Federal, State, Local, or Tribal government.

Estimated Number of Respondents: 800.

Estimated Time Per Response: 2 hours for focus groups; 5 minutes for Web surveys.

Estimated Total Annual Burden Hours: 860.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 26, 2000
Madeleine Clayton,
Departmental Forms Clearance Officer, Office of the Chief Information Officer.

[FR Doc. 00-28156 File 11-1-00; 8:45am]

BILLING CODE 3510-KE